DEPARTMENT OF THE INTERIOR

Bureau of Land Management

[CACA-47658, CA-670-5101-ER-B204]

Notice of Availability of Draft Environmental Impact; Statement/Environmental Impact Report (EIS/EIR) and Draft Land Use Plan Amendments/for the Proposed Sunrise Powerlink Project

AGENCY: Bureau of Land Management, Interior.

ACTION: Notice of Availability.

SUMMARY: In accordance with the National Environmental Policy Act of 1969 (NEPA, 42 U.S.C. 4321 et seq.) and the Federal Land Policy and Management Act of 1976 (FLPMA, 43 U.S.C. 1701 et seq.), the Bureau of Land Management (BLM), together with the California Public Utilities Commission (CPUC), has prepared a Draft EIS/EIR (which includes draft land use plan amendments) for the proposed Sunrise Powerlink Project proposed by San Diego Gas & Electric Company (SDG&E), and by this notice is announcing the opening of the comment period. The BLM is the lead Federal agency for the preparation of this EIS in compliance with the requirements of NEPA. The CPUC is the lead agency for the State of California for the preparation of this EIR in compliance with the requirements of the California Environmental Quality Act (CEQA).

DATES: To assure that they will be considered, the BLM/CPUC must receive written comments on the Draft EIS/EIR within 90 days following the date the Environmental Protection Agency publishes their Notice of Availability in the Federal Register. Future meetings or hearings and any other public involvement activities will be announced at least 15 days in advance through public notices, media news releases, Internet Web sites, and/or mailings.

ADDRESSES: You may submit comments in a variety of ways: (1) By U.S. mail, (2) by electronic mail, (3) by fax, or (4) by attending a public meeting and submitting written comments at the meetings.

By Mail: Please use first-class postage and be sure to include your name and a return address. Please send written comments to: Billie Blanchard, CPUC/Lynda Kastoll, BLM, c/o Aspen Environmental Group, 235 Montgomery Street, Suite 935, San Francisco, CA 94104-3002.

By Electronic Mail: E-mail communications are welcome; however, please remember to include your name and return address in the e-mail message. E-mail messages should be sent to sunrise@aspeneg.com.

By Fax: You may fax your comments to (866) 711-3106. Please remember to include your name and return address in the fax, to write legibly, and use black or blue ink.

FOR FURTHER INFORMATION CONTACT: Information concerning the Draft EIS/Plan Amendment may be obtained from Lynda Kastoll, Project Manager for the BLM, at (760) 337-4421, or e-mail at lkastoll@ca.blm.gov. Information concerning the EIR process may be obtained from Billie Blanchard, Project Manager for the CPUC, at (415) 703-2068 or on the CPUC Internet Web site at http://www.cpuc.ca.gov/environment/info/aspen/sunrise/sunrise.htm.

A copy of the Draft EIS/EIR for the Proposed Sunrise Powerlink Project is available for review at:

• BLM—El Centro Field Office, 1661 South 4th Street, El Centro, CA 92243, (760) 337-4421;

• BLM—Palm Springs/South Coast Field Office, 690 West Garnet Avenue, North Palm Springs, CA 92258, (760) 251-4849;

• CPUC—Los Angeles Office, 320 West 4th Street, Suite 500, Los Angeles, CA 90013, (213) 576-7000;

• CPUC—Headquarters Office, 505 Van Ness Avenue, Room 2103, San Francisco, CA 94102, (425) 703-2074; or

• CPUC Internet Web site at http://www.cpuc.ca.gov/environment/info/aspen/sunrise/sunrise.htm;

• Several public libraries in Imperial, San Diego and Riverside Counties, California.

• Electronic (on CD-ROM or DVD) or paper copies may also be obtained by contacting the BLM or the CPUC at the aforementioned addresses and phone numbers.

SUPPLEMENTARY INFORMATION: SDG&E proposes to construct a new 91-mile, 500-kilovolt (kV) electric transmission line from Imperial Valley Substation (in Imperial County, near the City of El Centro) to a new Central East Substation (in central San Diego County, southwest of the intersection of County Highways S22 and S2) and a new 59-mile 230-kV line that includes both overhead and underground segments from the new Central East Substation to SDG&E's existing Peñasquitos Substation (in the City of San Diego). Portions of the proposed 500-kV line transmission line would traverse approximately 35 miles of Federal lands managed by the BLM within the California Desert Conservation Area in Imperial County, and approximately 1 mile in San Diego County. Depending on which alternative is selected (exclusive of the No Action Alternative), the project would require an amendment to one or both of the following land use plans: the BLM's California Desert Conservation Area Plan (as amended) and the Eastern San Diego County Planning Unit Management Framework Plan because the route alignments would deviate from BLM designated utility corridors in several areas under these alternatives. The remainder of the proposed project would cross lands owned by various entities including State of California, local governments, and private parties.

The proposed transmission lines would utilize structures ranging in height from 120 to 170 feet, spaced approximately 700 to 1,600 feet apart, and would occupy rights-of-way of approximately 60 to 300 feet in width (subject to local conditions and restrictions). Existing disturbed corridors would be utilized to the extent feasible, to minimize potential environmental impacts. Where possible, SDG&E anticipates locating new facilities within or along existing rights-of-way.

The Draft EIR/EIS evaluates and presents the environmental impacts that are expected to result from construction and operation of the proposed project, and presents recommended mitigation measures that would avoid or minimize many of the significant environmental impacts identified. In accordance with CEQA and NEPA, the Draft EIR/EIS identifies alternatives to the proposed project (including the No Action Alternative) that could avoid or minimize significant environmental impacts associated with the project as proposed by SDG&E, and evaluates the environmental impacts associated with these alternatives.

The Draft EIR/EIS reflects input by government officials, agencies, non-governmental organizations, and concerned members of the public during the two public scoping periods following the CPUC's publication of the Notice of Preparation of an EIR/EIS on September 15, 2006, and the BLM's publication of the Notice of Intent in the Federal Register on August 31, 2006. During those periods, several public involvement activities were completed, such as: establishment of an Internet Web page and a telephone hotline, 15 public scoping meetings (seven in October 2006 and eight in February 2007), and several meetings with a number of affected local jurisdictions. Consultation with agencies and tribal governments also continued after the formal scoping ended. In addition, notices regarding alternatives to be evaluated in the EIR/EIS were mailed to interested parties in March and May of 2007.

Comments received may be published as part of the EIS/EIR process. Before including your address, phone number, e-mail address, or other personal identifying information in your comment, you should be aware that your entire comment—including your personal identifying information—may be made publicly available at any time. While you can ask us in your comment to withhold your personal identifying information from public review, we cannot guarantee that we will be able to do so.

J. Anthony Danna,
Deputy State Director, Natural Resources (CA-930).

[FR Doc. E8-280 Filed 1-10-08; 8:45 am]

BILLING CODE 4310-40-P